DEPARTMENT OF THE INTERIOR

National Park Service

[NPS-WASO-NAGPRA-20586]; [PPWOCRADN0-PCU00RP14.R50000]

Notice of Intent To Repatriate Cultural Items: U.S. Department of Defense, Army Corps of Engineers, Omaha District, Omaha, NE., and State Archaeological Research Center, Rapid City, SD

AGENCY: National Park Service, Interior.

ACTION: Notice.

SUMMARY: The U.S. Army Corps of Engineers, Omaha District (Omaha District), in consultation with the appropriate Indian tribes or Native Hawaiian organizations, has determined that the cultural items listed in this notice meet the definition of unassociated funerary objects. Lineal descendants or representatives of any Indian tribe or Native Hawaiian organization not identified in this notice that wish to claim these cultural items should submit a written request to the Omaha District. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to the Omaha District at the address in this notice by May 5, 2016.

ADDRESSES: Ms. Sandra Barnum, U.S. Army Engineer District, Omaha, ATTN: CENWO-PM-AB, 1616 Capital Avenue, Omaha, NE 68102, telephone, (402) 995-2674, email sandra.v.barnum@usace.army.mil.

SUPPLEMENTARY INFORMATION: Notice is hereby given in accordance with the Native American Graves Protection and Repatriation Act (NAGPRA), 25 U.S.C. 3005, of the intent to repatriate cultural items under the control of the Omaha District, Omaha, NE., that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

Cultural items consisting of 1,045 unassociated funerary objects were removed from 39DW2, the Four Bear site, Dewey County, SD. They are presently located at the South Dakota SARC and are under the control of the Omaha District.

The Four Bear site, 39DW2 was an earthlodge village on the west bank of the Missouri River. It was first visited in the 1930s by Alfred Bowers of the Smithsonian Institution. Between 1958 and 1959, salvage excavations were conducted at the site prior to inundation by flood waters of the Oahe Reservoir. At least 100 sets of human remains were recovered. Twelve sets of human remains are currently housed at SARC and have been reported under a separate Notice of Inventory Completion. In addition, a total of 64 sets of human remains were reburied either on Four Bear site or at site 39ST15. The whereabouts of the remaining 24 sets of human remains is currently unknown.

SARC currently has physical custody of 1,045 funerary objects that were originally removed with individuals whose remains were either reburied or whose present location is unknown. The excavation records clearly show that all these items were removed from the burials of specific individuals. The 1,045 unassociated funerary objects are 572 shell and glass beads, 4 bone tools, 34 ceramic sherds, 1 ceramic vessel, 333 copper sleeves crimped on leather, 1 bundle of copper sleeves with hide, 7 cooper and brass tubes, 2 metal knife blades, 1 iron wire bracelet, 20 copper ornaments, 2 leather earrings, 1 dog cranium, 23 faunal fragments, 1 mussel shell, 3 chert endscrapers, 1 lot of plant fiber, 2 lots of wood fragments, 7 individual wood fragments, 13 pieces of soil with red ochre, and 17 seeds.

The Four Bear site, 39 DW2 was probably occupied during the last two decades of the 1700s, which falls into the Disorganized Coalescent variant (A.D. 1780-1862) of the Plains Village Tradition. At least 36 circular lodges were identified. The excavators located a cemetery associated with the village a short distance to the southwest of the village site. In addition to the mortuary practices and types of funerary objects in evidence, the architecture of the circular earth lodges, community plan, physical location, and ceramic types support the association of the site to the late 1700s. It is possible that the site was first documented in William Clark's journal on October 6, 1804, as well as being mentioned in journals of members of the Lewis and Clark Expedition. The journals mention that the “Ricara” had left the village the prior spring. Populations associated with the Coalescent tradition within this area and time frame, as evidenced by the ethnographic and archeological record, are believed to be ancestral to the Arikara. The Arikara are represented today by the Three Affiliated Tribes of the Fort Berthold Reservation, North Dakota. Consultation with the Three Affiliated Tribes of the Fort Berthold Reservation, North Dakota, indicates that these objects represent the kinds of objects that are placed with individuals at the time of death.

Determinations Made by the Omaha District

Officials of the Omaha District have determined that:

• Pursuant to 25 U.S.C. 3001(3)(B), the 1,045 cultural items described above are reasonably believed to have been placed with or near individual human remains at the time of death or later as part of the death rite or ceremony and are believed, by a preponderance of the evidence, to have been removed from the specific burial sites of Native American individuals.

• Pursuant to 25 U.S.C. 3001(2), there is a relationship of shared group identity that can be reasonably traced between the unassociated funerary objects and Three Affiliated Tribes of the Fort Berthold Reservation, North Dakota.

Additional Requestors and Disposition

Lineal descendants or representatives of any Indian tribe or Native Hawaiian organization not identified in this notice that wish to claim these cultural items should submit a written request with information in support of the claim to Ms. Sandra Barnum, U.S. Army Engineer District, Omaha, ATTN: CENWO-PM-AB, 1616 Capital Avenue, Omaha, NE 68102, telephone, (402) 995-2674, email sandra.v.barnum@usace.army.mil, by May 5, 2016. After that date, if no additional claimants have come forward, transfer of control of the unassociated funerary objects to the Three Affiliated Tribes of the Fort Berthold Reservation, North Dakota.

The Omaha District is responsible for notifying the Three Affiliated Tribes of the Fort Berthold Reservation, North Dakota, that this notice has been published.

Dated: March 10, 2016.
Melanie O'Brien,
Manager, National NAGPRA Program.

[FR Doc. 2016-07767 Filed 4-4-16; 8:45 am]

BILLING CODE 4312-50-P